SURFACE TRANSPORTATION BOARD

49 CFR Parts 1001, 1003, 1004, 1005, 1007, 1011, 1012, 1013, 1016, 1018, 1019, 1033, 1034, 1035, 1037, 1090, 1100, 1101, 1103, 1104, 1105, 1106, 1108, 1110, 1112, 1113, 1114, 1116, 1117, 1119, 1120, 1132, 1133, 1135, 1141, 1144, 1146, 1147, 1150, 1152, 1155, 1177, 1180, 1182, 1184, 1185, 1200, 1220, 1242, 1243, 1244, 1245, 1246, 1247, 1248, 1253, 1305, 1310, 1312, 1313, 1319, 1331, and 1333

[Docket No. EP 746]

Updating the Code of Federal Regulations

AGENCY: Surface Transportation Board.

ACTION: Final rules.

SUMMARY: The Surface Transportation Board (Board) is updating its regulations to reflect certain statutory changes enacted in the Surface Transportation Board Reauthorization Act of 2015 and to replace certain obsolete or incorrect references in the regulations.

DATES: This rule is effective May 2, 2018.

FOR FURTHER INFORMATION CONTACT: Sarah Fancher: (202) 245-0355. Federal Information Relay Service (FIRS) for the hearing impaired: (800) 877-8339.

SUPPLEMENTARY INFORMATION: In this decision, the Board is revising, correcting, and updating its regulations in 49 CFR ch. X. Some of these revisions are necessitated by changes made by the Surface Transportation Board Reauthorization Act of 2015, Public Law 114-110, 129 Stat. 2228 (2015) (STB Reauthorization Act).

This decision makes the following changes to the Board's regulations:

• Eliminates or changes obsolete agency and/or office titles (e.g., 49 CFR 1105.7(b), 1152.50(d)(1)(ii));

• corrects obsolete contact information (e.g., 49 CFR 1180.4(c)(5)(ii), 1182.3);

• corrects references to United States Code or Code of Federal Regulations sections that have been moved ¹ or are otherwise incorrect (e.g., 49 CFR 1244.9(d)(2), 1103.3(c)(2));

¹ The STB Reauthorization Act revised parts of the United States Code, including re-designating Chapter 7 of Title 49 of the Code as Chapter 13. STB Reauthorization Act sec. 3.

• revises URL references to reflect the Board's new website ² (e.g., 49 CFR 1001.1(d));

² As a result of the STB Reauthorization Act, the Board is no longer administratively housed in the Department of Transportation; therefore, the Board changed its website from “www.stb.dot.gov” to “www.stb.gov.”

• revises the Board's regulations to reflect that the STB Reauthorization Act sec. 4 expanded the Board from three members to five members (49 CFR 1011.3); and

• corrects an omitted subheading (49 CFR pt. 1248).

Because these revisions are not substantive and/or relate to rules of agency organization, procedure, or practice, the Board finds good cause that notice and comment under the Administrative Procedure Act (APA) are unnecessary. 5 U.S.C. 553(b)(3)(A) & (B).

The Regulatory Flexibility Act (RFA), as amended by the Small Business Regulatory Enforcement Fairness Act of 1996, 5 U.S.C. 601-612, generally requires an agency to prepare a regulatory flexibility analysis of any rule subject to notice and comment rulemaking requirements, unless the agency certifies that the rule will not have a significant economic impact on a substantial number of small entities. Because the Board has determined that notice and comment are not required under the APA for this rulemaking, the requirements of the RFA do not apply.

These final rules do not contain a new or amended information collection requirement subject to the Paperwork Reduction Act of 1995, 44 U.S.C. 3501-3521.

List of Subjects

49 CFR Part 1001

Administrative practice and procedure, Confidential business information, Freedom of information.

49 CFR Part 1003

Common carriers, Reporting and recordkeeping requirements.

49 CFR Part 1004

Administrative practice and procedure, Motor carriers.

49 CFR Part 1005

Claims, Freight, Investigations, Maritime carriers, Motor carriers, Railroads.

49 CFR Part 1007

Privacy.

49 CFR Part 1011

Administrative practice and procedure, Authority delegations (Government agencies), Organization and functions (Government agencies).

49 CFR Part 1012

Sunshine Act.

49 CFR Part 1013

Common carriers, Reporting and recordkeeping requirements, Securities, Trusts and trustees.

49 CFR Part 1016

Claims, Equal access to justice, Lawyers.

49 CFR Part 1018

Claims, Income taxes.

49 CFR Part 1019

Conflict of interests.

49 CFR Part 1033

Railroads.

49 CFR Part 1034

Railroads.

49 CFR Part 1035

Maritime carriers, Railroads.

49 CFR Part 1037

Claims, Grains, Railroads.

49 CFR Part 1090

Freight, Intermodal transportation, Maritime carriers, Motor carriers, Railroads.

49 CFR Part 1100

Administrative practice and procedure.

49 CFR Part 1101

Administrative practice and procedure.

49 CFR Part 1103

Administrative practice and procedure, Lawyers.

49 CFR Part 1104

Administrative practice and procedure.

49 CFR Part 1105

Environmental impact statements, Reporting and recordkeeping requirements.

49 CFR Part 1106

Administrative practice and procedure, Federal Railroad Administration, Railroad safety.

49 CFR Part 1108

Administrative practice and procedure, Railroads.

49 CFR Part 1110

Administrative practice and procedure.

49 CFR Part 1112

Administrative practice and procedure.

49 CFR Part 1113

Administrative practice and procedure.

49 CFR Part 1114

Administrative practice and procedure.

49 CFR Part 1116

Administrative practice and procedure.

49 CFR Part 1117

Administrative practice and procedure.

49 CFR Part 1119

Administrative practice and procedure.

49 CFR Part 1120

Freight, Motor carriers, Uniform System of Accounts.

49 CFR Part 1132

Administrative practice and procedure.

49 CFR Part 1133

Claims, Freight.

49 CFR Part 1135

Administrative practice and procedure, Railroads, Reporting and recordkeeping requirements.

49 CFR Part 1141

Administrative practice and procedure.

49 CFR Part 1144

Railroads.

49 CFR Part 1146

Railroads.

49 CFR Part 1147

Railroads.

49 CFR Part 1150

Administrative practice and procedure, Railroads.

49 CFR Part 1152

Administrative practice and procedure, Railroads, Reporting and recordkeeping requirements, Uniform System of Accounts.

49 CFR Part 1155

Administrative practice and procedure, Railroads, Waste treatment and disposal.

49 CFR Part 1177

Administrative practice and procedure, Archives and records, Maritime carriers, Railroads.

49 CFR Part 1180

Administrative practice and procedure, Railroads, Reporting and recordkeeping requirements.

49 CFR Part 1182

Administrative practice and procedure, Motor carriers.

49 CFR Part 1184

Administrative practice and procedure, Motor carriers.

49 CFR Part 1185

Administrative practice and procedure, Antitrust, Railroads.

49 CFR Part 1200

Freight forwarders, Maritime carriers, Motor carriers, Railroads, Uniform System of Accounts.

49 CFR Part 1220

Freight forwarders, Maritime carriers, Motor carriers, Moving of household goods, Railroads, Reporting and recordkeeping requirements.

49 CFR Part 1242

Railroads, Taxes.

49 CFR Part 1243

Railroads, Reporting and recordkeeping requirements.

49 CFR Part 1244

Freight, Railroads, Reporting and recordkeeping requirements.

49 CFR Part 1245

Railroad employees, Reporting and recordkeeping requirements, Wages.

49 CFR Part 1246

Railroad employees, Reporting and recordkeeping requirements.

49 CFR Part 1247

Freight, Railroads, Reporting and recordkeeping requirements.

49 CFR Part 1248

Freight, Railroads, Reporting and recordkeeping requirements, Statistics.

49 CFR Part 1253

Freight forwarders, Maritime carriers, Motor carriers, Pipelines, Railroads, Reporting and recordkeeping requirements.

49 CFR Part 1305

Pipelines, Reporting and recordkeeping requirements.

49 CFR Part 1310

Freight forwarders, Motor carriers, Moving of household goods.

49 CFR Part 1312

Freight forwarders, Maritime carriers, Motor carriers, Moving of household goods, Pipelines, Railroads.

49 CFR Part 1313

Administrative practice and procedure, Agricultural commodities, Forests and forest products, Railroads.

49 CFR Part 1319

Freight forwarders.

49 CFR Part 1331

Buses, Freight forwarders, Maritime carriers, Motor carriers, Moving of household goods, Pipelines, Railroads.

49 CFR Part 1333

Penalties, Railroads.

It is ordered:

1. The rule modifications set forth below are adopted as final rules.

2. This decision is effective May 2, 2018.

Decided: March 27, 2018.
By the Board, Board Members Begeman and Miller.
Kenyatta Clay,
Clearance Clerk.

For the reasons set forth in the preamble, under the authority of 49 U.S.C. 1321, title 49, chapter X, parts 1001, 1003, 1004, 1005, 1007, 1011, 1012, 1013, 1016, 1018, 1019, 1033, 1034, 1035, 1037, 1090, 1100, 1101, 1103, 1104, 1105, 1106, 1108, 1110, 1112, 1113, 1114, 1116, 1117, 1119, 1120, 1132, 1133, 1135, 1141, 1144, 1146, 1147, 1150, 1152, 1155, 1177, 1180, 1182, 1184, 1185, 1200, 1220, 1242, 1243, 1244, 1245, 1246, 1247, 1248, 1253, 1305, 1310, 1312, 1313, 1319, 1331, and 1333 of the Code of Federal Regulations are amended as follows:

PART 1001—INSPECTION OF RECORDS

1. The authority citation for part 1001 continues to read as follows:

Authority: 5 U.S.C. 552; 49 U.S.C. 1302, and 49 U.S.C. 1321.

§ 1001.1 [Amended]

2. In § 1001.1 (d), remove “www.stb.dot.gov” and add in its place “www.stb.gov”.

PART 1003—FORMS

3. Revise the authority citation for part 1003 to read as follows:

Authority: 49 U.S.C. 1321, 13301(f).

PART 1004—INTERPRETATIONS AND ROUTING REGULATIONS

4. Revise the authority citation for part 1004 to read as follows:

Authority: 49 U.S.C. 1321.

PART 1005—PRINCIPLES AND PRACTICES FOR THE INVESTIGATION AND VOLUNTARY DISPOSITION OF LOSS AND DAMAGE CLAIMS AND PROCESSING SALVAGE

5. Revise the authority citation for part 1005 to read as follows:

Authority: 49 U.S.C. 1321, 11706, 14706, 15906.

PART 1007—RECORDS CONTAINING INFORMATION ABOUT INDIVIDUALS

6. Revise the authority citation for part 1007 to read as follows:

Authority: 5 U.S.C. 552, 49 U.S.C. 1321.

PART 1011—BOARD ORGANIZATION; DELEGATIONS OF AUTHORITY

7. Revise the authority citation for part 1011 to read as follows:

Authority: 5 U.S.C. 553; 31 U.S.C. 9701; 49 U.S.C. 1301, 1321, 11123, 11124, 11144, 14122, and 15722.

8. Amend § 1011.3 as follows:

a. Revise the section heading.

b. In paragraph (a)(1):

i. Remove the citation to “49 U.S.C. 701(c)(1)” and add in its place “49 U.S.C. 1301(c)(1)”.

ii. Remove the citation to “49 U.S.C. 701(c)(2)” and add in its place “49 U.S.C. 1301(c)(2)”.

c. Revise paragraph (a)(3).

The revisions read as follows:

§ 1011.3 The Chairman, Vice Chairman, and Board Members.

(a) * * *

(3) In the Chairman's absence, the Vice Chairman is acting Chairman, and has the authority and responsibilities of the Chairman. In the Vice Chairman's absence, the Chairman, if present, has the authority and responsibilities of the Vice Chairman. In the absence of both the Chairman and the Vice Chairman, the Board may temporarily designate one of its members to act as Chairman and to have the authority and responsibilities of the Chairman and Vice Chairman.

* * * * *

§ 1011.7 [Amended]

9. In § 1011.7 (a)(2)(ix), remove the reference to “Section of Environmental Analysis” and add in its place “Office of Environmental Analysis”.

PART 1012—MEETINGS OF THE BOARD

10. Revise the authority citation for part 1012 to read as follows:

Authority: 5 U.S.C. 552b(g), 49 U.S.C. 1301, 1321.

PART 1013—GUIDELINES FOR THE PROPER USE OF VOTING TRUSTS

11. Revise the authority citation for part 1013 to read as follows:

Authority: 49 U.S.C. 1321, 13301(f).

PART 1016—SPECIAL PROCEDURES GOVERNING THE RECOVERY OF EXPENSES BY PARTIES TO BOARD ADJUDICATORY PROCEEDINGS

12. Revise the authority citation for part 1016 to read as follows:

Authority: 5 U.S.C. 504(c)(1), 49 U.S.C. 1321.

PART 1018—DEBT COLLECTION

13. Revise the authority citation for part 1018 to read as follows:

Authority: 31 U.S.C. 3701, 31 U.S.C. 3711 et seq., 49 U.S.C. 1321, 31 CFR parts 900-904.

PART 1019—REGULATIONS GOVERNING CONDUCT OF SURFACE TRANSPORTATION BOARD EMPLOYEES

14. Revise the authority citation for part 1019 to read as follows:

Authority: 49 U.S.C. 1321.

PART 1033—CAR SERVICE

15. Revise the authority citation for part 1033 to read as follows:

Authority: 49 U.S.C. 1321, 11121, 11122.

PART 1034—ROUTING OF TRAFFIC

16. Revise the authority citation for part 1034 to read as follows:

Authority: 49 U.S.C. 1321, 11123.

PART 1035—BILLS OF LADING

17. Revise the authority citation for part 1035 to read as follows:

Authority: 49 U.S.C. 1321, 11706, 14706.

PART 1037—BULK GRAIN AND GRAIN PRODUCTS—LOSS AND DAMAGE CLAIMS

18. Revise the authority citation for part 1037 to read as follows:

Authority: 49 U.S.C. 1321.

PART 1090—PRACTICES OF CARRIERS INVOLVED IN THE INTERMODAL MOVEMENT OF CONTAINERIZED FREIGHT

19. Revise the authority citation for part 1090 to read as follows:

Authority: 49 U.S.C. 1321.

PART 1100—GENERAL PROVISIONS

20. Revise the authority citation for part 1100 to read as follows:

Authority: 49 U.S.C. 1321.

PART 1101—DEFINITIONS AND CONSTRUCTION

21. Revise the authority citation for part 1101 to read as follows:

Authority: 49 U.S.C. 1321.

PART 1103—PRACTITIONERS

22. Revise the authority citation for part 1103 to read as follows:

Authority: 21 U.S.C. 862; 49 U.S.C. 1303(c), 1321.

§ 1103.3 [Amended]

23. In § 1103.3(c)(2), remove “21 U.S.C. 853a” and add in its place “21 U.S.C. 862”.

PART 1104—FILING WITH THE BOARD—COPIES—VERIFICATION—SERVICE—PLEADINGS, GENERALLY

24. The authority citation for part 1104 continues to read as follows:

Authority: 5 U.S.C. 553 and 559; 18 U.S.C. 1621; and 49 U.S.C. 1321.

§ 1104.1 [Amended]

25. In § 1104.1(e), remove “http://www.stb.dot.gov” and add in its place “www.stb.gov”.

PART 1105—PROCEDURES FOR IMPLEMENTATION OF ENVIRONMENTAL LAWS

26. Revise the authority citation for part 1105 to read as follows:

Authority: 16 U.S.C. 1456, and 1536; 42 U.S.C. 4332 and 6362(b); 49 U.S.C. 1301 note (1995) (Savings Provisions), 1321(a), 10502, and 10903-10905; 54 U.S.C. 306108.

27. In § 1105.7(b), revise the concluding sentence to read as follows:

§ 1105.7 Environmental reports.

* * * * *

(b) * * *

For information regarding the names and addresses of the agencies to be contacted, interested parties may contact the Board's Office of Environmental Analysis.

* * * * *

§ 1105.10 [Amended]

28. In § 1105.10:

a. In paragraph (a)(1), remove the reference to “Section of Environmental Analysis” and add in its place “Office of Environmental Analysis (OEA)”.

b. In paragraph (a)(3), remove the reference to “the Section of Environmental Analysis” and add in its place “OEA”.

c. In paragraph (b), remove the reference to “the Section of Environmental Analysis” and add in its place “OEA”.

d. In paragraph (g), remove the reference to “SEA” and add in its place “OEA”.

§ 1105.11 [Amended]

29. In the appendix to § 1105.11, remove the reference to “SEA” and add in its place “OEA”.

§ 1105.12 [Amended]

30. In the appendix to § 1105.12, in the Sample Local Newspaper Notice for Petitions for Abandonment Exemptions, remove the reference to “SEA” wherever it appears and add in its place “OEA”.

PART 1106—PROCEDURES FOR SURFACE TRANSPORTATION BOARD CONSIDERATION OF SAFETY INTEGRATION PLANS IN CASES INVOLVING RAILROAD CONSOLIDATIONS, MERGERS, AND ACQUISITIONS OF CONTROL

31. Revise the authority citation for part 1106 to read as follows:

Authority: 5 U.S.C. 553; 5 U.S.C. 559; 49 U.S.C. 1321; 49 U.S.C. 10101; 49 U.S.C. 11323-11325; 42 U.S.C. 4332.

32. In § 1106.2:

a. Remove the definition of Section of Environmental Analysis.

b. Add a definition of Office of Environmental Analysis in alphabetical order to read as follows:

§ 1106.2 Definitions.

* * * * *

Office of Environmental Analysis (“OEA”) means the Office that prepares the Board's environmental documents and analyses.

* * * * *

§ 1106.4 [Amended]

33. In § 1106.4(a), (b)(1), (b)(2), and (b)(3), remove the reference to “SEA” wherever it appears and add in its place “OEA”.

PART 1108—ARBITRATION OF CERTAIN DISPUTES SUBJECT TO THE STATUTORY JURISDICTION OF THE SURFACE TRANSPORTATION BOARD

34. The authority citation for part 1108 continues to read as follows:

Authority: 49 U.S.C. 11708, 49 U.S.C. 1321(a), and 5 U.S.C. 571 et seq.

§ 1108.3 [Amended]

35. In § 1108.3(c), remove “www.stb.dot.gov” and add in its place “www.stb.gov”.

PART 1110—PROCEDURES GOVERNING INFORMAL RULEMAKING PROCEEDINGS

36. Revise the authority citation for part 1110 to read as follows:

Authority: 49 U.S.C. 1321.

PART 1112—MODIFIED PROCEDURES

37. Revise the authority citation for part 1112 to read as follows:

Authority: 5 U.S.C. 559; 49 U.S.C. 1321.

PART 1113—ORAL HEARING

38. Revise the authority citation for part 1113 to read as follows:

Authority: 5 U.S.C. 559; 49 U.S.C. 1321.

PART 1114—EVIDENCE; DISCOVERY

39. The authority citation for part 1114 continues to read as follows:

Authority: 5 U.S.C. 559; 49 U.S.C. 1321.

§ 1114.31 [Amended]

40. In § 1114.31(b)(1), remove “49 U.S.C. 721(c)” and add in its place “49 U.S.C. 1321(c)”.

PART 1116—ORAL ARGUMENT BEFORE THE BOARD

41. Revise the authority citation for part 1116 to read as follows:

Authority: 49 U.S.C. 1321.

PART 1117—PETITIONS (FOR RELIEF) NOT OTHERWISE COVERED

42. Revise the authority citation for part 1117 to read as follows:

Authority: 49 U.S.C. 1321.

PART 1119—COMPLIANCE WITH BOARD DECISIONS

43. Revise the authority citation for part 1119 to read as follows:

Authority: 49 U.S.C. 1321.

PART 1120—USE OF 1977-1978 STUDY OF MOTOR CARRIER PLATFORM HANDLING FACTORS

44. Revise the authority citation for part 1120 to read as follows:

Authority: 49 U.S.C. 1321, 13701, 13703.

PART 1132—PROTESTS REQUESTING SUSPENSION AND INVESTIGATION OF COLLECTIVE RATEMAKING ACTIONS

45. Revise the authority citation for part 1132 to read as follows:

Authority: 49 U.S.C. 1321, 13301(f), and 13703.

PART 1133—RECOVERY OF DAMAGES

46. Revise the authority citation for part 1133 to read as follows:

Authority: 49 U.S.C. 1321.

PART 1135—RAILROAD COST RECOVERY PROCEDURES

47. Revise the authority citation for part 1135 to read as follows:

Authority: 5 U.S.C. 553, and 49 U.S.C. 1321, 10701, 10704, 10708, and 11145.

PART 1141—PROCEDURES TO CALCULATE INTEREST RATES

48. Revise the authority citation for part 1141 to read as follows:

Authority: 49 U.S.C. 1321.

PART 1144—INTRAMODAL RAIL COMPETITION

49. Revise the authority citation for part 1144 to read as follows:

Authority: 49 U.S.C. 1321, 10703, 10705, and 11102.

PART 1146—EXPEDITED RELIEF FOR SERVICE EMERGENCIES

50. Revise the authority citation for part 1146 to read as follows:

Authority: 49 U.S.C. 1321, 11101, and 11123.

PART 1147—TEMPORARY RELIEF UNDER 49 U.S.C. 10705 AND 11102 FOR SERVICE INADEQUACIES

51. Revise the authority citation for part 1147 to read as follows:

Authority: 49 U.S.C. 1321, 10705, 11101, and 11102.

PART 1150—CERTIFICATE TO CONSTRUCT, ACQUIRE, OR OPERATE RAILROAD LINES

52. Revise the authority citation for part 1150 to read as follows:

Authority: 49 U.S.C. 1321(a), 10502, 10901, and 10902.

§ 1150.1 [Amended]

53. In § 1150.1(b), remove the reference to “Section of Environmental Analysis” and add in its place “Office of Environmental Analysis”.

§ 1150.10 [Amended]

54. In § 1150.10(g), remove the reference to “Section of Environmental Analysis” and add in its place “Office of Environmental Analysis”.

§ 1150.36 [Amended]

55. In § 1150.36:

a. In paragraph (b), remove the reference to “Section of Environmental Analysis (SEA)” and add in its place “Office of Environmental Analysis (OEA)”.

b. In paragraph (c)(1)(ii), remove the reference to “SEA” and add in its place “OEA”.

c. In paragraph (c)(3), remove the reference to “SEA” wherever it appears and add in its place “OEA”.

d. In paragraph (c)(4), remove the reference to “SEA's” and add in its place “OEA's”.

e. In paragraph (d):

i. Remove the reference to “SEA” wherever it appears and add in its place “OEA”.

ii. Remove the reference to “SEA's” wherever it appears and add in its place “OEA's”.

PART 1152—ABANDONMENT AND DISCONTINUANCE OF RAIL LINES AND RAIL TRANSPORTATION UNDER 49 U.S.C. 10903

56. The authority citation for part 1152 continues to read as follows:

Authority: 11 U.S.C. 1170; 16 U.S.C. 1247(d) and 1248; 45 U.S.C. 744; and 49 U.S.C. 1301, 1321(a), 10502, 10903-10905, and 11161.

§ 1152.20 [Amended]

57. In § 1152.20(a)(2)(vii), remove the reference to “Military Traffic Management Command” and add in its place “Military Surface Deployment and Distribution Command”.

§ 1152.21 [Amended]

58. In § 1152.21, remove the reference to “Section of Environmental Analysis” wherever it appears and add in its place “Office of Environmental Analysis”.

§ 1152.22 [Amended]

59. In § 1152.22(i), remove the reference to “Section of Environmental Analysis” wherever it appears and add in its place “Office of Environmental Analysis”.

§ 1152.50 [Amended]

60. In § 1152.50(d)(1)(ii), remove the reference to “Military Traffic Management Command” and add in its place “Military Surface Deployment and Distribution Command”.

§ 1152.60 [Amended]

61. In § 1152.60(c), remove the reference to “Section of Environmental Analysis” wherever it appears and add in its place “Office of Environmental Analysis”.

PART 1155—SOLID WASTE RAIL TRANSFER FACILITIES

62. Revise the authority citation for part 1155 to read as follows:

Authority: 49 U.S.C. 1321(a), 10908, 10909, 10910.

63. In Appendix A to part 1155, remove “http://www.stb.dot.gov” and add in its place “www.stb.gov”.

PART 1177—RECORDATION OF DOCUMENTS

64. Revise the authority citation for part 1177 to read as follows:

Authority: 49 U.S.C. 1321, 11301.

PART 1180—RAILROAD ACQUISITION, CONTROL, MERGER, CONSOLIDATION PROJECT, TRACKAGE RIGHTS, AND LEASE PROCEDURES

65. Revise the authority citation for part 1180 to read as follows:

Authority: 5 U.S.C. 553 and 559; 11 U.S.C. 1172; 49 U.S.C. 1321, 10502, 11323-11325.

§ 1180.1 [Amended]

66. In § 1180.1(f)(1):

a. Remove the reference to “Section of Environmental Analysis (SEA)” and add in its place “Office of Environmental Analysis (OEA)”.

b. Remove the reference to “SEA” and add in its place “OEA”.

67. In § 1180.4, revise paragraph (c)(5)(ii) to read as follows:

§ 1180.4 Procedures.

* * * * *

(c) * * *

(5) * * *

(ii) The Secretary of the United States Department of Transportation (Office of Chief Counsel, Federal Railroad Administration, 1200 New Jersey Avenue SE, Washington, DC 20590.

* * * * *

§ 1180.6 [Amended]

68. In § 1180.6(a)(8), remove the reference to “Section of Environmental Analysis” and add in its place “Office of Environmental Analysis”.

PART 1182—PURCHASE, MERGER, AND CONTROL OF MOTOR PASSENGER CARRIERS

69. Revise the authority citation for part 1182 to read as follows:

Authority: 5 U.S.C. 559; 21 U.S.C. 862; and 49 U.S.C. 13501, 13541(a), 13902(c), and 14303.

§ 1182.2 [Amended]

70. In § 1182.2(a)(11), remove “21 U.S.C. 853a” and add in its place “21 U.S.C. 862”. (a)(2), remove “Chief, Lic. & Ins. Div., U.S.D.O.T. Office of Motor Carriers-HIA 30, 400 Virginia Ave. SW, Ste. 600, Washington, DC 20004” and add in its place “Federal Motor Carrier Safety Administration, Office of Registration & Safety Information, Chief, Registration, Licensing & Insurance Division, 1200 New Jersey Ave. SE, Mail Stop W65-331, Washington, DC 20590”.

§ 1182.3 [Amended]

71. In § 1182.3(a)(2), remove “Chief, Lic. & Ins. Div., U.S.D.O.T. Office of Motor Carriers-HIA 30, 400 Virginia Ave. SW, Ste. 600, Washington, DC 20004” and add in its place “Federal Motor Carrier Safety Administration, Office of Registration & Safety Information, Chief, Registration, Licensing & Insurance Division, 1200 New Jersey Ave. SE, Mail Stop W65-331, Washington, DC 20590”.

§ 1182.8 [Amended]

72. In § 1182.8(f), remove “Office of Motor Carriers of the U.S. Department of Transportation” and add in its place “Federal Motor Carrier Safety Administration”.

PART 1184—MOTOR CARRIER POOLING OPERATIONS

73. Revise the authority citation for part 1184 to read as follows:

Authority: 49 U.S.C. 1321, 14302.

PART 1185—INTERLOCKING OFFICERS

74. Revise the authority citation for part 1185 to read as follows:

Authority: 49 U.S.C. 1321, 10502, and 11328.

PART 1200—GENERAL ACCOUNTING REGULATIONS UNDER THE INTERSTATE COMMERCE ACT

75. Revise the authority citation for part 1200 to read as follows:

Authority: 49 U.S.C. 1321, 11142, 11143, 11144, 11145.

PART 1220—PRESERVATION OF RECORDS

76. Revise the authority citation for part 1220 to read as follows:

Authority: 49 U.S.C. 1321, 11144, 11145.

PART 1242—SEPARATION OF COMMON OPERATING EXPENSES BETWEEN FREIGHT SERVICE AND PASSENGER SERVICE FOR RAILROADS

77. Revise the authority citation for part 1242 to read as follows:

Authority: 49 U.S.C. 1321, 11142.

PART 1243—QUARTERLY OPERATING REPORTS—RAILROADS

78. Revise the authority citation for part 1243 to read as follows:

Authority: 49 U.S.C. 1321, 11145.

PART 1244—WAYBILL ANALYSIS OF TRANSPORTATION OF PROPERTY—RAILROADS

79. Revise the authority citation for part 1244 to read as follows:

Authority: 49 U.S.C. 1321, 10707, 11144, 11145.

§ 1244.4 [Amended]

80. In § 1244.4(c)(1), remove “http://www.stb.dot.gov” and add in its place “www.stb.gov”.

§ 1244.9 [Amended]

81. In § 1244.9:

a. In paragraph (b)(4)(ii), remove the reference to “§ 1244.8(e)” and add in its place “§ 1244.9(e)”.

b. In paragraph (d)(2), remove the reference to “49 CFR 1224.8” and add in its place “49 CFR 1244.9”.

c. In paragraph (h):

i. Remove the reference to “Military Traffic Management Command (MTMC)” and add in its place “Military Surface Deployment and Distribution Command (SDDC)”.

ii. Remove the reference to “MTMC's” and add in its place “SDDC's”.

PART 1245—CLASSIFICATION OF RAILROAD EMPLOYEES; REPORTS OF SERVICE AND COMPENSATION

82. Revise the authority citation for part 1245 to read as follows:

Authority: 49 U.S.C. 1321, 11145.

PART 1246—NUMBER OF RAILROAD EMPLOYEES

83. Revise the authority citation for part 1246 to read as follows:

Authority: 49 U.S.C. 1321, 11145.

PART 1247—REPORT OF CARS LOADED AND CARS TERMINATED

84. Revise the authority citation for part 1247 to read as follows:

Authority: 49 U.S.C. 1321, 10707, 11144, 11145.

§ 1247.1 [Amended]

85. In § 1247.1, remove “http://www.stb.dot.gov” and add in its place “www.stb.gov”.

PART 1248—FREIGHT COMMODITY STATISTICS

86. Revise the authority citation for part 1248 to read as follows:

Authority: 49 U.S.C. 1321, 11144 and 11145.

87. Designate §§ 1248.1 through 1248.6 as subpart A, and add a heading for subpart A to read as follows:

Subpart A—Railroads

PART 1253—RATE-MAKING ORGANIZATION; RECORDS AND REPORTS

88. Revise the authority citation for part 1253 to read as follows:

Authority: 49 U.S.C. 1321, 10706, 13703, 11144, and 11145.

PART 1305—DISCLOSURE AND NOTICE OF CHANGE OF RATES AND OTHER SERVICE TERMS FOR PIPELINE COMMON CARRIAGE

89. Revise the authority citation for part 1305 to read as follows:

Authority: 49 U.S.C. 1321(a) and 15701(e).

PART 1310—TARIFF REQUIREMENTS FOR HOUSEHOLD GOODS CARRIERS

90. Revise the authority citation for part 1310 to read as follows:

Authority: 49 U.S.C. 1321(a), 13702(a), 13702(c) and 13702(d).

PART 1312—REGULATIONS FOR THE PUBLICATION, POSTING AND FILING OF TARIFFS FOR THE TRANSPORTATION OF PROPERTY BY OR WITH A WATER CARRIER IN NONCONTIGUOUS DOMESTIC TRADE

91. Revise the authority citation for part 1312 to read as follows:

Authority: 49 U.S.C. 1321(a), 13702(a), 13702(b) and 13702(d).

PART 1313—RAILROAD CONTRACTS FOR THE TRANSPORTATION OF AGRICULTURAL PRODUCTS

92. Revise the authority citation for part 1313 to read as follows:

Authority: 49 U.S.C. 1321(a) and 10709.

PART 1319—EXEMPTIONS

93. Revise the authority citation for part 1319 to read as follows:

Authority: 49 U.S.C. 1321(a) and 13541.

PART 1331—APPLICATIONS UNDER 49 U.S.C. 10706 AND 13703

94. Revise the authority citation for part 1331 to read as follows:

Authority: 49 U.S.C. 1321, 10706 and 13703.

PART 1333—DEMURRAGE LIABILITY

95. Revise the authority citation for part 1333 to read as follows:

Authority: 49 U.S.C. 1321.

[FR Doc. 2018-06657 Filed 4-6-18; 8:45 a.m.]

BILLING CODE 4915-01-P